ENVIRONMENTAL PROTECTION AGENCY

[EPA-HQ-OAR-2022-0435; FRL-10598-01-OMS]

Agency Information Collection Activities; Submission to the Office of Management and Budget for Review and Approval; Comment Request; Emission Guidelines and Compliance Times for Municipal Solid Waste Landfills (Renewal)

AGENCY: Environmental Protection Agency (EPA).

ACTION: Notice.

SUMMARY: The Environmental Protection Agency (EPA) has submitted an information collection request (ICR), Emission Guidelines and Compliance Times for Municipal Solid Waste Landfills (EPA ICR Number 2252.04, OMB Control Number 2060-0720), to the Office of Management and Budget (OMB) for review and approval in accordance with the Paperwork Reduction Act. This is a proposed extension of the ICR, which is currently approved through January 31, 2023. Public comments were previously requested, via the Federal Register, on July 22, 2022 during a 60-day comment period. This notice allows for an additional 30 days for public comments.

DATES: Comments may be submitted on or before February 27, 2023.

ADDRESSES: Submit your comments, referencing Docket ID Number EPA-HQ-OAR-2022-0435, to EPA online using https://www.regulations.gov/ (our preferred method), or by email to docket@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute. Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina 27711; telephone number: (919) 541-0833; email address: ali.muntasir@epa.gov.

SUPPLEMENTARY INFORMATION: This is a proposed extension of the ICR, which is currently approved through January 31, 2023. An agency may neither conduct nor sponsor, and a person is not required to respond to, a collection of information unless it displays a currently valid OMB control number. Public comments were previously requested, via the Federal Register (87 FR 43843), on July 22, 2022 during a 60-day comment period. This notice allows for an additional 30 days for public comments. Supporting documents, which explain in detail the information that the EPA will be collecting, are available in the public docket for this ICR. The docket can be viewed online at https://www.regulations.gov, or in person at the EPA Docket Center, WJC West Building, Room 3334, 1301 Constitution Ave. NW, Washington, DC. The telephone number for the Docket Center is 202-566-1744. For additional information about EPA's public docket, visit: http://www.epa.gov/dockets.

Abstract: EPA issued New Source Performance Standards (NSPS) and Emission Guidelines (EG) and Compliance Times for Existing Municipal Solid Waste (MSW) Landfills under the regulations published at 40 CFR part 60, subparts WWW and Cc, promulgated on March 12, 1996, revised on June 16, 1998, and February 24, 1999. The Federal plan requirements implementing the regulations were published at 40 CFR part 62, subpart GGG, promulgated on November 8, 1999. On August 29, 2016, EPA finalized 40 CFR part 60, subpart XXX, based on review of 40 CFR part 60, subpart WWW, which applies to MSW landfills that are either new, or reconstructed, or modified after July 17, 2014 (effective October 28, 2016). Concurrently, EPA finalized revised Emissions Guidelines under 40 CFR part 60, subpart Cf, which apply to existing landfills accepting waste after November 8, 1987, for which construction was commenced either on or before July 17, 2014. The revised guidelines are implemented under state or Federal plans. EPA finalized a Federal plan implementing 40 CFR part 60, subpart Cf under 40 CFR part 62, subpart OOO on May 21, 2021. This ICR includes burden for MSW landfills that are subject to the requirements of Subpart Cf, which are implemented under State plans and a `Federal' plan (40 CFR part 62, subpart OOO). All MSW landfills that are subject to the original NSPS (40 CFR part 60, subpart WWW), the Federal plan (40 CFR part 62, subpart GGG), or a state plan implementing the original emission guidelines (40 CFR part 60, subpart Cc) were required to comply with their current requirements unless and until they are covered by a more stringent State or Federal plan implementing the emission guidelines in subpart Cf. Since EPA has finalized the Federal plan at 40 CFR part 62, subpart OOO, all respondents previously subject to Subpart WWW, a state plan implementing subpart Cc, or GGG, are now either subject to either a state plan under implementing 40 CFR part 60, subpart Cf, or must comply with the Federal plan under 40 CFR part 62, subpart OOO, or if they have modified since July 17, 2014, they must now comply with the NSPS at 40 CFR part 60, subpart XXX. Subpart Cf reduces the NMOC emission rate threshold from the previous level of 50 megagrams per year (Mg/yr) to 34 Mg/yr for landfills that are not closed as of August 29, 2016. The final rule retained the design capacity cutoff of 2.5 million Mg and 2.5 million cubic meters in the current emission guidelines. Closed landfills retain the same NMOC threshold of 50 Mg/yr, as was the case under Subpart WWW. Closed landfills are also exempted from the one-time reporting requirements, provided the landfill fulfilled requirements under the NSPS (40 CFR part 60, subpart WWW), the Federal plan (40 CFR part 62, subpart GGG), or a state plan implementing 40 CFR part 60 Subpart Cc.

Respondents/affected entities: Existing MSW landfills that have accepted waste since November 8, 1987, and commenced either construction, reconstruction, or modification on or before July 17, 2014.

Respondent's obligation to respond: Mandatory (40 CFR part 60, subpart Cf and 40 CFR part 62, subpart OOO).

Estimated number of respondents: 1,887 (total).

Frequency of response: Initially, annually.

Total estimated burden: 605,260 hours (per year). Burden is defined at 5 CFR 1320.3(b).

Total estimated cost: $44,154,000 (per year), which includes $2,710,000 in annualized capital and/or operation & maintenance costs.

Changes in the Estimates: The decrease in burden from the currently approved ICR is due to an adjustment. The decrease in the number of respondents reflects the lower expected number of landfills controlling based on projected emissions, as well as the number of landfills subject based on waste disposal quantities which increase over time at active landfills. The number of respondents also assumes that landfills will be controlled under the more stringent 34 Mg/yr requirements. The estimates subtract out landfills expected to modify and become subject to the MSW landfill 2016 NSPS Subpart XXX instead (OMB Control Number 2060-0697). This ICR therefore reflects a decrease in the total number of respondents subject to the rule, but a similar number of controlling landfills subject to monitoring and testing requirements. There is a slight increase in burden for states/local agencies implementing state/local agency plans due to an increase in the number of states/local agencies enforcing State Plans. There is a decrease in the capital costs due to a decrease in the number of respondents expected to install controls and therefore conduct initial performance tests and install monitoring equipment.

Courtney Kerwin,
Director, Regulatory Support Division.

[FR Doc. 2023-01543 Filed 1-25-23; 8:45 am]

BILLING CODE 6560-50-P